DEPARTMENT OF LABOR

Employment and Training Administration

Notice of Availability of Funds and Solicitation for Grant Applications for Serving Adult and Youth Ex-Offenders Through Strategies Targeted to Characteristics Common to Female Ex-Offenders

Funding Opportunity Number: SGA/DFA PY-11-12

SUMMARY: Through this notice, the Department of Labor's Employment and Training Administration (ETA), announces the availability of approximately $12 million in grant funds authorized by the Workforce Investment Act (WIA) to award approximately eight grants to serve adult and youth ex-offenders pre- and post-release. Services to be funded will be targeted to female ex-offenders, but must also be open to eligible male ex-offenders. Applicants may submit only one proposal for up to $1.5 million, with the amount requested depending on the number of participants to be served. These grants will be selected through a competitive process open to any non-profit organization with IRS 501(c)(3) status, unit of state or local government, or any Indian and Native American entity eligible for grants under WIA Section 166. These grants will cover a 30-month period of performance that includes up to six months of planning and a minimum of 24 months of operations. The 24 month period for operations must include time to allow each participant to complete the program and have between 3-4 months of follow-up. Thus, the last cohort of participants must complete program services 3 to 4 months before the end of the grant. Grantees may provide follow-up services to some participants while providing direct services to others.

The complete SGA and any subsequent SGA amendments, in connection with this solicitation are described in further detail on ETA's Web site at http://www.doleta.gov/grants/ or on http://www.grants.gov. The Web sites provide application information, eligibility requirements, review and selection procedures and other program requirements governing this solicitation.

DATES: The closing date for receipt of applications is May 4, 2012.

FOR FURTHER INFORMATION CONTACT: Mamie Williams, Grants Management Specialist, Division of Federal Assistance, at (202) 693-3341.

The Grant Officer for this SGA is Latifa Jeter.
Signed March 19, 2012 in Washington, D.C.
Eric D. Luetkenhaus,
Grant Officer, Employment and Training Administration.

[FR Doc. 2012-6932 Filed 3-22-12; 8:45 am]

BILLING CODE 4510-FT-P